DEPARTMENT OF COMMERCE

National Oceanic and Atmospheric Administration

[Docket No. 010813205-2043-02]

RIN 0648-XA74

NOAA Ocean Exploration Initiative; Correction

AGENCY: Office of Ocean Exploration, National Oceanic and Atmospheric Administration (NOAA), Commerce.

ACTION: Technical Amendment to the Notice from NOAA's Ocean Exploration Program for FY 2002; Announcement to Solicit Proposals.

SUMMARY: NOAA amends the notice regarding the NOAA Office of Ocean Exploration (OE) proposal solicitation published in the Federal Register on September 4, 2001. The amendment will modify the language regarding the number of reviews required for OE's independent peer mail review process. This action is being taken due to the receipt of an insufficient number of responses from pre-selected peer reviewers.

FOR FURTHER INFORMATION CONTACT: Margot Bohan, NOAA Office of Ocean Exploration, Bldg.SSMC3, 1315 East-West Highway, Silver Spring, MD 20901, (301) 713-9444 ext. 155, margot.bohan@noaa.gov.

SUPPLEMENTARY INFORMATION: The NOAA Office of Ocean Exploration published a notice on September 4, 2001, describing the Ocean Exploration Program and soliciting proposals in support of its mission (66 FR 46260). The program description, funding guidance, submission procedures, evaluation criteria, selection process, and background are in that notice and are not repeated here. The original notice's independent peer mail review procedure defined a requirement for receipt of 3 mail-in reviews before panel review. This requirement is beyond the agency's control and ability to attain within the time available to commence the 2002 field season. The Office hereby revises the mail-in review requirements (page 46262, column 3, section XII, first sentence) to read as follows: “Proposals will be evaluated by an independent peer mail review, i.e., each proposal will be reviewed, by at least two qualified scientific and/or technical peers * * *”.

Applications under this solicitation will be subjected to both a mail review and a panel review.

Program authority: 33 U.S.C. 883d; (CFDA No. 11.460)—Special Oceanic and Atmospheric Projects.

Louisa Koch,
Deputy Assistant Administrator, Office of Oceanic and Atmospheric Research, National Oceanic and Atmospheric Administration.

[FR Doc. 02-6250 Filed 3-14-02; 8:45 am]

BILLING CODE 3510-KD-M